DEPARTMENT OF TRANSPORTATION

Surface Transportation Board

[Docket No. AB 1072X]

Iowa River Railroad, Inc.—Abandonment Exemption—in Marshall and Hardin Counties, IA

On April 17, 2012, Iowa River Railroad, Inc. (IRR) filed with the Surface Transportation Board (Board) a petition under 49 U.S.C. 10502 for exemption from the prior approval requirements of 49 U.S.C. 10903 to abandon an approximately 34.35-mile line of railroad between milepost 209.00 and milepost 243.35 at or near Marshalltown, in Marshall and Hardin Counties, Iowa (the Line). The Line traverses United States Postal Service Zip Codes 50005, 50158, 50627, 50258, and 50259, and includes the stations of Marshalltown (milepost 243.35), Bethel, Minerva Junction, Albion (milepost 236.9), Liscomb (milepost 232.6), Union (milepost 225.9), Eldora (milepost 216.58), and Steamboat Rock (milepost 212.30).¹

¹ IRR states that four shippers have used IRR's services over the Line during the past four years: United Suppliers, Inc., Prairie Land Cooperative, Quality Products, and New Century Farm Service.

IRR states that it does not have information in its possession to conclude that the Line contains federally granted rights-of-way. Any documentation in IRR's possession will be made available promptly to those requesting it.

The interest of railroad employees will be protected by the conditions set forth in Oregon Short Line Railroad—Abandonment Portion Goshen Branch Between Firth & Ammon, In Bingham & Bonneville Counties, Idaho, 360 I.C.C. 91 (1979).

By issuance of this notice, the Board is instituting an exemption proceeding pursuant to 49 U.S.C. 10502(b). A final decision will be issued by August 3, 2012.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the Line, the Line may be suitable for other public use, including interim trail use. Any request for a public use condition under 49 CFR 1152.28 or for trail use/rail banking under 49 CFR 1152.29 will be due no later than May 29, 2012. Each trail use request must be accompanied by a $250 filing fee. See 49 CFR 1002.2(f)(27).

All filings in response to this notice must refer to Docket No. AB 1072X and must be sent to: (1) Surface Transportation Board, 395 E Street SW., Washington, DC 20423-0001; and (2) T. Scott Bannister, 111-SW 56th Street, Des Moines, IA 50312. Replies to the petition are due on or before May 29, 2012.

Persons seeking further information concerning abandonment procedures may contact the Board's Office of Public Assistance, Governmental Affairs and Compliance at (202) 245-0238 or refer to the full abandonment or discontinuance regulations at 49 CFR pt. 1152. Questions concerning environmental issues may be directed to the Board's Office of Environmental Analysis (OEA) at (202) 245-0305. [Assistance for the hearing impaired is available through the Federal Information Relay Service (FIRS) at 1-800-877-8339.]

An environmental assessment (EA) (or environmental impact statement (EIS), if necessary) prepared by OEA will be served upon all parties of record and upon any agencies or other persons who commented during its presentation. Other interested persons may contact OEA to obtain a copy of the EA (or EIS). EAs in these abandonment proceedings normally will be made available within 60 days of the filing of the petition. The deadline for submission of comments on the EA generally will be within 30 days of its service.

Board decisions and notices are available on our Web site at www.stb.dot.gov.

Decided: May 1, 2012.
By the Board, Rachel D. Campbell, Director, Office of Proceedings.
Derrick A. Gardner,
Clearance Clerk.

[FR Doc. 2012-10913 Filed 5-4-12; 8:45 am]

BILLING CODE 4915-01-P